DEPARTMENT OF COMMERCE

National Oceanic and Atmospheric Administration

[I.D. 110503E]

Proposed Information Collection; Comment Request; Eastern Pacific Tuna Vessel Register Information

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before January 12, 2004.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Trisha Culver at 562-980-4239 or at Trisha.Culver@noaa.gov.

SUPPLEMENTARY INFORMATION:

I. Abstract

Owners of vessels that fish for tuna in the eastern Pacific Ocean (bounded by the coast of the Americas, 40° N. lat., 40° S. lat., and 150° W. long.) were required to submit information about their fishing vessels in 2000 so that the United States could provide information for a vessel register being compiled under the terms of an Inter-American Tropical Tuna Commission (IATTC) recommendation approved by the Department of State under the Tuna Conventions Act. The National Marine Fisheries Service used existing sources of information to obtain most of the information needed, but vessel owners were required to provide some information as well as a picture of the vessel with its registration number showing. The vessel register is needed to support uniform monitoring of compliance with IATTC conservation and management recommendations that are implemented by member governments, including the United States. Once the initial information was provided, the only reporting requirement was to report changes in vessel characteristics, ownership or other information on the form. It is estimated that no more than 30 vessel owners would be subject to this requirement in any year. In addition, it is estimated that 20 reports will be needed annually for new vessels to be placed on the register.

II. Method of Collection

Paper forms and pictures are submitted.

III. Data

OMB Number: 0648-0431.

Form Number: None.

Type of Review: Regular submission.

Affected Public: Business or other for-profit organizations.

Estimated Number of Respondents: 50.

Estimated Time Per Response: 1 hour for taking, developing, and mailing vessel picture. Other burden varies from 5-20 minutes depending on the existing data sets available from other sources for different fleets or fleet segments. The estimated average burden for reporting information changes or for reports for new vessels is 20 minutes.

Estimated Total Annual Burden Hours: 47.

Estimated Total Annual Cost to Public: $350.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 4, 2003.
Gwellnar Banks,
Management Analyst, Office of the Chief Information Officer.

[FR Doc. 03-28382 Filed 11-12-03; 8:45 am]

BILLING CODE 3510-22-S